DEPARTMENT OF COMMERCE

International Trade Administration

[A-570-979, C-570-980]

Crystalline Silicon Photovoltaic Cells, Whether or Not Assembled Into Modules, From the People's Republic of China: Notice of Initiation of Changed Circumstances Reviews, and Consideration of Revocation of the Antidumping and Countervailing Duty Orders in Part

AGENCY: Enforcement and Compliance, International Trade Administration, Department of Commerce.

SUMMARY: Based on a request from SOURCE Global, PBC (SOURCE Global), the Department of Commerce (Commerce) is initiating changed circumstances reviews (CCRs) to consider the possible revocation, in part, of the antidumping duty (AD) and countervailing duty (CVD) orders on crystalline silicon photovoltaic cells, whether or not assembled into modules (solar cells), from the People's Republic of China (China) with respect to certain off-grid small portable crystalline silicon photovoltaic (CSPV) panels.

DATES: Applicable March 15, 2021.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On December 7, 2012, Commerce published AD and CVD orders on solar cells from China.¹ On December 4, 2020, SOURCE Global, an importer of the subject merchandise, requested, through CCRs, revocation of the Solar Cells Orders with respect to certain off-grid small portable CSPV panels, pursuant to section 751(b)(1) of the Tariff Act of 1930, as amended (the Act), and 19 CFR 351.216(b).² SOURCE Global requested that Commerce apply the proposed exclusion retroactively to the furthest possible date.³ On January 15, 2021, we notified SOURCE Global that its request for CCRs lacked certain information that was required in order for Commerce to consider the request.⁴ On January 29, 2021, SOURCE Global amended its request for CCRs by providing the required information, including a letter from SunPower Manufacturing Oregon LLC (SPMOR), a U.S. producer of the domestic like product and a petitioner in the underlying investigations, in which SPMOR stated that it did not object to the scope modification proposed by SOURCE Global.⁵ On March 10, 2021, SOURCE Global submitted an edited version of the proposed exclusion language and included a letter from SPMOR, in which SPMOR stated that it did not object to the scope modification proposed by SOURCE Global.⁶

¹ See Crystalline Silicon Photovoltaic Cells, Whether or Not Assembled Into Modules, From the People's Republic of China: Amended Final Determination of Sales at Less Than Fair Value, and Antidumping Duty Order, 77 FR 73018 (December 7, 2012); see also Crystalline Silicon Photovoltaic Cells, Whether or Not Assembled Into Modules, From the People's Republic of China: Countervailing Duty Order, 77 FR 73017 (December 7, 2012) (collectively, Solar Cells Orders).

² See SOURCE Global's Letter, “Crystalline Silicon Photovoltaic Cells, Whether or Not Assembled into Modules from the People's Republic of China; Request for Changed Circumstances Review on Certain Off-Grid Portable Small Panels and Consumer Products Containing Such Panels,” dated December 4, 2020.

³ Id. at 13.

⁴ See Commerce's Letter, “Crystalline Silicon Photovoltaic Cells, Whether or Not Assembled into Modules, from the People's Republic of China: Request for Additional Information,” dated January 15, 2021.

⁵ See SOURCE Global's Letter, “Crystalline Silicon Photovoltaic Cells, Whether or Not Assembled into Modules from the People's Republic of China; Changed Circumstances Review on Certain Off-Grid Portable Small Panels and Consumer Products Containing Such Panels; SOURCE Global, PBC Response to Department of Commerce Information Request,” dated January 29, 2021.

⁶ See SOURCE Global's Letter, “Crystalline Silicon Photovoltaic Cells, Whether or Not Assembled into Modules from the People's Republic of China; SOURCE Global, PBC Changed Circumstances Review Request; SOURCE Global, PBC Submission of Edited Product Exclusion Language,” dated March 10, 2021.

Scope of the Cells Orders

The merchandise covered by these orders is crystalline silicon photovoltaic cells, and modules, laminates, and panels, consisting of crystalline silicon photovoltaic cells, whether or not partially or fully assembled into other products, including, but not limited to, modules, laminates, panels and building integrated materials.

These orders covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of these orders.

Excluded from the scope of these orders are thin film photovoltaic products produced from amorphous silicon (a-Si), cadmium telluride (CdTe), or copper indium gallium selenide (CIGS).

Also excluded from the scope of these orders are crystalline silicon photovoltaic cells, not exceeding 10,000mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the orders are panels with surface area from 3,450 mm2 to 33,782 mm2 with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the orders are:

1. Off grid CSPV panels in rigid form with a glass cover, with the following characteristics:

(A) A total power output of 100 watts or less per panel;

(B) a maximum surface area of 8,000 cm2 per panel;

(C) do not include a built-in inverter;

(D) must include a permanently connected wire that terminates in either an 8mm male barrel connector, or a two-port rectangular connector with two pins in square housings of different colors;

(E) must include visible parallel grid collector metallic wire lines every 1-4 millimeters across each solar cell; and

(F) must be in individual retail packaging (for purposes of this provision, retail packaging typically includes graphics, the product name, its description and/or features, and foam for transport); and

2. Off grid CSPV panels without a glass cover, with the following characteristics:

(A) A total power output of 100 watts or less per panel;

(B) a maximum surface area of 8,000 cm2 per panel;

(C) do not include a built-in inverter;

(D) must include visible parallel grid collector metallic wire lines every 1-4 millimeters across each solar cell; and

(E) each panel is

1. permanently integrated into a consumer good;

2. encased in a laminated material without stitching, or

3. has all of the following characteristics: (i) The panel is encased in sewn fabric with visible stitching, (ii) includes a mesh zippered storage pocket, and (iii) includes a permanently attached wire that terminates in a female USB-A connector.

Modules, laminates, and panels produced in a third-country from cells produced in China are covered by the orders; however, modules, laminates, and panels produced in China from cells produced in a third-country are not covered by these orders.

Merchandise covered by these orders is currently classified in the Harmonized Tariff System of the United States (HTSUS) under subheadings 8501.61.0000, 8507.20.80, 8541.40.6020, 8541.40.6030, and 8501.31.8000. These HTSUS subheadings are provided for convenience and customs purposes; the written description of the scope of these orders is dispositive.⁷

⁷ See Solar Cells Orders.

Proposed Partial Revocation of the Solar Cells Order

SOURCE Global proposes that the Solar Cells Orders be revoked, in part, with respect to certain off-grid small portable CSPV panels as described below:

(1). Off-grid CSPV panels in rigid form with a glass cover, with each of the following physical characteristics, whether or not assembled into a fully completed off-grid hydropanel whose function is conversion of water vapor into liquid water:

(A) A total power output of no more than 80 watts per panel;

(B) A surface area of less than 5,000 square centimeters (cm²) per panel;

(C) Do not include a built-in inverter;

(D) Do not have a frame around the edges of the panel;

(E) Include a clear glass back panel; and

(F) Must include a permanently connected wire that terminates in a two-port rectangular connector.

Initiation of CCRs, and Consideration of Revocation of the Solar Cells Orders, in Part

Pursuant to section 751(b) of the Act, Commerce will conduct a CCR upon receipt of a request from an interested party ⁸ that shows changed circumstances sufficient to warrant a review of an order. In accordance with 19 CFR 351.216(d), Commerce determines that the information submitted by SOURCE Global, and the domestic producer's affirmative statement of no interest in the Solar Cells Orders with respect to the products described by SOURCE Global, constitute a sufficient basis to conduct CCRs of the Solar Cells Orders.

⁸ SOURCE Global reported in its December 4, 2020, request for changed circumstances reviews that it is an importer of certain off-grid small portable CSPV panels. As such, SOURCE Global is an interested party within the meaning of section 771(9)(A) of the Act and 19 CFR 351.102(b)(29)(ii).

Section 782(h)(2) of the Act and 19 CFR 351.222(g)(1)(i) provide that Commerce may revoke an order (in whole or in part) if it determines that producers accounting for substantially all of the production of the domestic like product have expressed a lack of interest in the order, in whole or in part. In addition, in the event that Commerce determines an expedited action is warranted, 19 CFR 351.221(c)(3)(ii) permits Commerce to combine the notices of initiation and preliminary results. In its administrative practice, Commerce has interpreted “substantially all” to mean producers accounting for at least 85 percent of the total U.S. production of the domestic like product covered by the order.⁹

⁹ See, e.g., Certain Cased Pencils From the People's Republic of China: Initiation and Preliminary Results of Antidumping Duty Changed Circumstances Review, and Intent To Revoke Order in Part, 77 FR 42276 (July 18, 2012), unchanged in Certain Cased Pencils From the People's Republic of China: Final Results of Antidumping Duty Changed Circumstances Review, and Determination To Revoke Order, in Part, 77 FR 53176 (August 31, 2012).

Domestic producer SPMOR stated that it does not object to the scope modification proposed by SOURCE Global. However, because SPMOR did not indicate whether it accounts for substantially all of the U.S. production of the domestic like product covered by the orders, we are not combining this notice of initiation with a preliminary determination, pursuant to 19 CFR 351.221(c)(3)(ii). Rather, we will provide interested parties with an opportunity to address the issue of domestic industry support with respect to the partial revocation of the Solar Cells Orders, as explained below. After examining comments, if any, concerning domestic industry support, we will issue the preliminary results of these CCRs.

Public Comment

Interested parties are invited to provide comments and/or factual information regarding these CCRs, including comments on industry support and the proposed partial revocation language. Comments and factual information may be submitted to Commerce no later than ten days after the date of publication of this notice. Rebuttal comments and rebuttal factual information may be filed with Commerce no later than seven days after the comments and/or factual information are filed.¹⁰ All submissions must be filed electronically using Enforcement and Compliance's AD and CVD Centralized Electronic Service System (ACCESS).¹¹ An electronically filed document must be received successfully in its entirety by ACCESS, by 5 p.m. Eastern Time on the due dates set forth in this notice. Note that Commerce has temporarily modified certain of its requirements for serving documents containing business proprietary information until further notice.¹²

¹⁰ Submissions of rebuttal factual information must comply with 19 CFR 351.301(b)(2).

¹¹ See generally 19 CFR 351.303.

¹² See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

Preliminary and Final Results of the CCRs

Commerce intends to publish in the Federal Register a notice of the preliminary results of these AD and CVD CCRs in accordance with 19 CFR 351.221(b)(4) and (c)(3)(i). Commerce will set forth its preliminary factual and legal conclusions in that notice. Unless extended, Commerce will issue the final results of these CCRs in accordance with the time limits set forth in 19 CFR 351.216(e).

Notification to Interested Parties

This initiation notice is published in accordance with section 751(b)(1) of the Act and 19 CFR 351.221(b)(1).

Dated: March 15, 2021.
Christian Marsh,
Acting Assistant Secretary for Enforcement and Compliance.

[FR Doc. 2021-06540 Filed 3-29-21; 8:45 am]

BILLING CODE 3510-DS-P